DEPARTMENT OF COMMERCE

Foreign-Trade Zones Board

Order No. 1472

Approval of Request for Manufacturing Authority Within Foreign-Trade Zone 204, Tri-Cities Area, TN/VA, (Fractional-Horsepower Electric Motors)

Pursuant to its authority under the Foreign-Trade Zones Act of June 18, 1934, as amended (19 U.S.C. 81a-81u), the Foreign-Trade Zones Board (the Board) adopts the following Order:

Whereas, the Tri-Cities Airport Commission, grantee of Foreign-Trade Zone 204, submitted an application to the Board for manufacturing authority (fractional-horsepower electric motors) within FTZ 204 for Electro Motor, LLC (FTZ Docket 42-2005; filed 8/19/2005);

Whereas, notice inviting public comment was given in the Federal Register (70 FR 51335-51336, 8/30/2005) and the application has been processed pursuant to the FTZ Act and the Board's regulations; and,

Whereas, the Board adopts the findings and recommendations of the examiner's report, and finds that the requirements of the FTZ Act and Board's regulations are satisfied, and that the proposal is in the public interest;

Now, therefore, the Board hereby grants authority for the manufacture of fractional-horsepower electric motors within Site 5 of FTZ 204, as described in the application and Federal Register notice, and subject to the FTZ Act and the Board's regulations, including Section 400.28.

Signed at Washington, DC, this 3rd day of August 2006.

David M. Spooner,
Assistant Secretary of Commerce for Import Administration, Alternate Chairman, Foreign-Trade Zones Board.
Attest:
Andrew McGilvray,
Acting Executive Secretary.

[FR Doc. E6-13600 Filed 8-16-06; 8:45 am]

BILLING CODE 3510-DS-S